DEPARTMENT OF AGRICULTURE

Forest Service

Information Collection; Generic Clearance for Citizen Science Projects

AGENCY: Forest Service, USDA.

ACTION: Notice; request for comment.

SUMMARY: In accordance with the Paperwork Reduction Act of 1995, the Forest Service is seeking comments from all interested individuals and organizations on a new generic information collection request, Generic Clearance for Citizen Science Projects.

DATES: Comments must be received in writing on or before February 20, 2018 to be assured of consideration. Comments received after that date will be considered to the extent practicable.

ADDRESSES: Send written comments to Michelle Tamez, USDA—Forest Service, Ecosystem Management Coordination, 201 14th St. SW, Washington, DC 20250 or by electronic mail to FSCCS@fs.fed.us. If comments are sent by electronic mail, the public is requested not to send duplicate written comments via regular mail. Please confine written comments to issues pertinent to the information collection request; explain the reasons for any recommended changes; and, where possible, reference the specific section or paragraph being addressed.

All timely and properly submitted comments, including names and addresses when provided, are placed in the record and are available for public inspection and copying. The public may inspect comments received on this information collection at the USDA—Forest Service headquarters, Ecosystem Management Coordination, 201 14th St. SW, Washington, DC 20250 between the hours of 10:00 a.m. to 5:30 p.m. on business days. Those wishing to inspect comments should call ahead (202) 205-1194 to facilitate an appointment and entrance to the building.

FOR FURTHER INFORMATION CONTACT: Agency Coordinator for Crowdsourcing and Citizen Science, Michelle Tamez at (202) 205-1194. Individuals who use telecommunication devices for the deaf (TDD) may call the Federal Relay Service (FRS) at 1-800-877-8339 twenty-four hours a day, every day of the year, including holidays.

SUPPLEMENTARY INFORMATION:

Title: Generic Clearance for Citizen Science Projects.

OMB Number: 0596—NEW.

Expiration Date of Approval: NEW.

Type of Request: NEW.

Abstract: Citizen science brings together two important Forest Service values—using sound science to guide our management and decision making, and connecting our work to the public that we serve. In order to ensure a timely and consistent process for Paperwork Reduction Act compliance, the Forest Service is proposing to develop a Generic Information Collection Request to be utilized for citizen science projects that support that Ageny's mission.

Citizen science can support the Forest Service's mission by allowing the Agency to collect qualitative and quantitative data that can help inform scientific research; ecological, social and biological assessments and monitoring efforts; validate environmental models or tools; and enhance the quantity and quality of data collected across the country's diverse communities and ecosystems. Citizen science also creates an avenue to incorporate local knowledge and needs, and can contribute to increased data sharing, open data, and government transparency. The Forest Service may sponsor the collection of this type of information in connection with citizen science projects. When applicable, all such collections will accord with Agency policies and regulations related to human subjects and research. If a new collection is not within the parameters of this generic Information Collection Request (ICR), the Agency will submit a separate information collection request to Office of Management and Budget (OMB) for approval.

Collections under this generic ICR will be from volunteers who participate on their own initiative through an open and transparent process; the collections will be low-burden for participants; collections will be low-cost for both the participants and the Federal Government; and data will be available to support the scientific endeavors of the Agency, states, tribal or local entities where data collection occurs.

Estimate of Annual Burden on Respondents: 4,533,333 hours/year.

Type of Respondents: Participants/respondents will be individuals, not specific entities.

Estimated Annual Number of Respondents: 160,000/year.

Estimated Annual Number of Responses per Respondent: 9 responses/respondent.

Comment is Invited:

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology. The Forest Service will consider the comments received and amend the ICR as appropriate. The final ICR package will then be submitted to OMB for review and approval.

All comments received in response to this notice, including names and addresses when provided, will be a matter of public record. Comments will be summarized and included in the submission request for final Office of Management and Budget approval.

Dated: November 28, 2017.
Chris French,
Associate Deputy Chief, National Forest System.

[FR Doc. 2017-27287 Filed 12-18-17; 8:45 am]

BILLING CODE 3411-15-P